DEPARTMENT OF THE INTERIOR

Fish and Wildlife Service

Draft Endangered Karst Invertebrate and Karst Feature Survey Guidance

AGENCY: Fish and Wildlife Service, Interior.

ACTION: Notice.

SUMMARY: The U.S. Fish and Wildlife Service (Service) is updating the schedule to revise and make available for public comment draft endangered karst invertebrate and karst feature survey guidance. This document is intended for use in central Texas in surveying karst features for suitable karst invertebrate habitat and to determine the presence or absence of karst invertebrates listed as endangered under the Endangered Species Act of 1973 (as amended).

DATES: We intend to publish a Notice of Availability for public review of the documents by March 31, 2004.

ADDRESSES: Field Supervisor, U.S. Fish and Wildlife Service, Austin Ecological Services Field Office, 10711 Burnet Road, Suite 200, Austin, Texas 78758; telephone (512) 490-0057; facsimile (512) 490-0974.

FOR FURTHER INFORMATION CONTACT: Field Supervisor, Austin Ecological Services Field Office (see ADDRESSES).

SUPPLEMENTARY INFORMATION:

Background

Sixteen invertebrate species known to occur in Bexar, Williamson, and Travis Counties, Texas, are listed as endangered under the Endangered Species Act. These invertebrates are only capable of surviving in caves or karstic rock. Karst ecosystems receive nutrients from the surface community in the form of leaf litter and other organic debris that are washed into or fall into the cave, from tree and other vascular plant roots, and/or through the feces, eggs or dead bodies of animals. In addition to providing nutrients to the karst ecosystem, the plant community also filters contaminants and buffers against changes in temperature and humidity. The major threats to karst invertebrates include the loss of habitat due to urbanization; contamination; predation by and competition with nonnative fire ants; and vandalism.

On February 27, 2003, we provided notice (68 FR 9094) of our intention to do the following:

(1) With respect to survey guidance for use in determining the presence of karst features that may contain potential habitat for endangered karst invertebrates in central Texas, we committed to work with the Texas Commission on Environmental Quality (TCEQ) and other partners to update as needed the existing TCEQ guidance on karst feature surveys.

(2) With respect to survey guidance for endangered karst invertebrates, we committed to request a panel of experts to review all new information regarding how to survey for karst invertebrates. We will use the panel's recommendations to modify the section 10(a)(1)(A) permitting requirements and to develop karst invertebrate survey guidance. This guidance was initially intended to be made available for public review and comment through a Notice of Availability to be published in the Federal Register by December 30, 2003.

We submitted both draft guidance documents to a panel of 48 individuals with expertise and interest in conservation of karst invertebrates. The panel met with us on September 8, 2003, and individuals on the panel provided feedback on both guidance documents. We are incorporating comments and suggestions provided by the panel into the guidance for surveying for the presence or absence of karst invertebrates. We will resubmit this updated document to the karst panel for additional review and comment. As a result, the notice of availability for public review of this document will be delayed. We now intend to publish the notice by March 31, 2004.

Authority: The authority for this action is the Endangered Species Act, as amended (16 U.S.C. 1532 et seq.).

Dated: November 28, 2003.
R. M. McDonald,
Acting Regional Director.

[FR Doc. 04-964 Filed 1-15-04; 8:45 am]

BILLING CODE 4310-55-P